DEPARTMENT OF LABOR

Employment and Training Administration

[TA-W-39,947]

Martin Marietta Magnesia Specialties, Inc., Manistee, Michigan; Notice of Revised Determination on Reconsideration

On June 17, 2002, the Department issued an Affirmative Determination Regarding Application on Reconsideration applicable to workers and former workers of the subject firm. The notice will soon be published in the Federal Register.

On March 27, 2002 the Department initially denied TAA to workers of Martin Marietta Magnesia Specialties, Inc., Manistee, Michigan producing magnesium oxide and magnesium hydroxide monolithics because the “contributed importantly” group eligibility requirement of Section 222 of the Trade Act of 1974, as amended, was not met.

On reconsideration, the Department of Labor conducted a further survey of the subject plants' major declining customer(s) regarding their purchases of magnesium oxide during the relevant period. The survey revealed that a major customer increased their imports of magnesium oxide, while reducing their purchases from the subject firm during the relevant period.

Further review of company data supplied during the initial investigation shows that the company increased their reliance on imported magnesium oxide during the relevant period.

Imports of magnesium oxide contributed importantly to the layoffs at the subject firm based on the combination of increased reliance of imported magnesium oxide by a customer and the company during the relevant period.

Conclusion

After careful review of the additional facts obtained on reconsideration, I conclude that increased imports of articles like or directly competitive with magnesium oxide, contributed importantly to the declines in sales or production and to the total or partial separation of workers of Martin Marietta Magnesia Specialties, Inc., Manistee, Michigan. In accordance with the provisions of the Act, I make the following certification:

All workers of Martin Marietta Magnesia Specialties, Inc., Manistee, Michigan who became totally or partially separated from employment on or after August 13, 2000 through two years of this certification, are eligible to apply for adjustment assistance under Section 223 of the Trade Act of 1974.

Signed in Washington, DC this 25th day of July 2002.
Edward A. Tomchick,
Director, Division of Trade Adjustment Assistance.

[FR Doc. 02-19951 Filed 8-6-02; 8:45 am]

BILLING CODE 4510-30-P